DEPARTMENT OF TRANSPORTATION

Federal Aviation Administration

Airborne Radar Altimeter Equipment (For Air Carrier Aircraft)

AGENCY: Federal Aviation Administration (FAA), DOT.

ACTION: Notice of intent to cancel Technical Standard Order (TSO)-C67, Airborne Radar Altimeter Equipment (For Air Carrier Aircraft).

SUMMARY: This notice announces the FAA's intent to cancel TSO-C67, Airborne Radar Altimeter Equipment (For Air Carrier Aircraft). The effect of the cancelled TSO will result in no new TSO-C67 design or production approvals. However, cancellation will not affect any current production of an existing TSO authorization (TSOA). Articles produced under an existing TSOA can still be installed per the existing airworthiness approvals, and all applications for new airworthiness approvals will still be processed.

DATES: Comments must be received on or before February 22, 2012.

FOR FURTHER INFORMATION CONTACT: Mr. Albert Sayadian, AIR-130, Federal Aviation Administration, 470 L'Enfant Plaza, Suite 4102, Washington, DC 20024. Telephone (202) 385-4652, fax (202) 385-4651, email to: albert.sayadian@faa.gov.

SUPPLEMENTARY INFORMATION:

Comments Invited

You are invited to comment on the cancellation of the TSO-C67 by submitting written data, views, or arguments to the above address. Comments received may be examined, both before and after the closing date at the above address, weekdays except federal holidays, between 8:30 a.m. and 4:30 p.m. The Director, Aircraft Certification Service, will consider all comments received on or before the closing date.

Background

On November 15, 1960, the FAA published TSO-C67, Airborne Radar Altimeter Equipment (for air carrier aircraft). Since 1978, there have been no new applications for TSOA for TSO-C67. Our research indicates there are no authorized manufacturers currently manufacturing, advertising, or selling TSO-C67 compliant equipment. Therefore, given the obsolescence of the equipment, and the lack of industry interest in TSO-C67 product designs, we propose cancelling TSO-C67. Please note that TSO-C87, Airborne Low Range Radio Altimeter, is currently used for Radio Altimeter certification and is not affected by this action.

Susan J. M. Cabler,
Assistant Manager, Aircraft Engineering Division, Aircraft Certification Service.

[FR Doc. 2012-1243 Filed 1-20-12; 8:45 am]

BILLING CODE 4910-13-P